DEPARTMENT OF EDUCATION

Safe Schools/Healthy Students Program; Catalog of Federal Domestic Assistance (CFDA) Numbers: 84.184J and 84.184L

AGENCY: Office of Safe and Drug-Free Schools, Department of Education.

ACTION: Notice of proposed priorities, requirements, and definitions.

SUMMARY: The Assistant Deputy Secretary for Safe and Drug-Free Schools proposes priorities, requirements, and definitions under the Safe Schools/Healthy Students (SS/HS) program. The Assistant Deputy Secretary may use one or more of these priorities, requirements, and definitions for competitions in fiscal year (FY) 2011 and later years. We take this action to focus Federal financial assistance on supporting school and community partnerships in their efforts to develop and coordinate integrated systems that create safe, drug-free, and respectful environments for learning and to promote the behavioral health ¹ of children and youth.

¹ The term “behavioral health” is used in this document as a general term to encompass the promotion of emotional and mental health and the prevention of mental illness and substance abuse disorders.

DATES: We must receive your comments on or before March 21, 2011.

ADDRESSES: Address all comments about this notice to Karen Dorsey, U.S. Department of Education, 400 Maryland Avenue, SW., room 10061, Potomac Center Plaza (PCP), Washington, DC 20202-6450.

If you prefer to send your comments by e-mail, use the following address: Karen.dorsey@ed.gov. You must include the term Safe Schools/Healthy Students Comments in the subject line of your electronic message.

FOR FURTHER INFORMATION CONTACT: Karen Dorsey. Telephone: (202) 245-7858 or by e-mail: Karen.dorsey@ed.gov.

If you use a telecommunications device for the deaf (TDD), call the Federal Relay Service (FRS), toll free, at 1-800-877-8339.

SUPPLEMENTARY INFORMATION: Invitation to Comment: We invite you to submit comments regarding this notice. To ensure that your comments have maximum effect in developing the notice of final priorities, requirements, and definitions, we urge you to identify clearly the specific proposed priority, requirement, and definition that each comment addresses.

We invite you to assist us in complying with the specific requirements of Executive Order 12866 and its overall requirement of reducing regulatory burden that might result from these proposed priorities, requirements, and definitions. Please let us know of any further ways we could reduce potential costs or increase potential benefits while preserving the effective and efficient administration of the program.

During and after the comment period, you may inspect all public comments about this notice in room 10061, 550 12th Street, SW., Washington, DC between the hours of 8:30 a.m. and 4:00 p.m., Washington, DC time, Monday through Friday of each week except Federal holidays. Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: To support school and community partnerships in their efforts to develop, coordinate, and implement a comprehensive plan of evidence-based programs, effective policies, and innovative strategies that create safe, drug-free, and respectful environments for learning and promote the behavioral health of children and youth.

Program Authority: Section 4121 of the Elementary and Secondary Education Act, as amended (ESEA) (20 U.S.C. 7131); Public Health Service Act (42 U.S.C. 290aa); and the Juvenile Justice and Delinquency Prevention Act (42 U.S.C. 5614(b)(4)(e) and 5781 et seq.)

Program Background: We published a notice of final priorities, requirements, selection criteria, and definitions for this program (2007 NFP) in the Federal Register on May 10, 2007 (72 FR 26692). The 2007 NFP contained background information and our reasons for the particular priorities, requirements, selection criteria, and definitions established in that notice; the priorities, requirements, selection criteria, and definitions announced in the 2007 NFP were used for the FY 2007, FY 2008, and FY 2009 SS/HS competitions.

In this notice of proposed priorities, requirements, and definitions (NPP), we propose priorities, requirements, and definitions that would replace the priorities, requirements, and definitions that we established in the 2007 NFP. While some of the priorities, requirements, and definitions included in this NPP are completely new, others are based—at least in part—on the priorities, requirements, and definitions reflected in the 2007 NFP. With the priorities, requirements, and definitions proposed in this notice, the program-specific selection criteria established in the 2007 NFP are no longer needed. For this reason, we do not propose program-specific selection criteria in this NPP.

Proposed Priorities

This notice contains three proposed priorities.

Background

Since 1999 the U.S. Departments of Education, Health and Human Services, and Justice have collaborated on the Safe Schools/Healthy Students (SS/HS) grant program to support school and community partnerships in implementing an integrated, comprehensive community-wide plan designed to create safe, respectful, and drug-free school environments and to promote “prosocial” skills and healthy childhood development. Since its inception, the intent of the SS/HS program has been that SS/HS grantees would draw from the best practices and research in education, behavioral health, law enforcement, and juvenile justice in developing a comprehensive plan of activities, curricula, programs, and services to address issues that adversely affect the learning environment and healthy childhood development.

In the 1999 grant application for this program, we articulated the following three important program goals for SS/HS:

(1) Helping students develop the skills and emotional resilience necessary to promote positive mental health, engage in prosocial behavior, and prevent violent behavior and drug use.

(2) Ensuring that all students who attend the targeted schools are able to learn in safe, disciplined, and drug-free environments.

(3) Helping develop an infrastructure that will institutionalize and sustain integrated services after Federal funding has ended.

Over the years, we have revised and added to the absolute priority, program requirements, program-specific selection criteria, and the definitions that we established for the SS/HS program in 1999. Specifically, the absolute priority was refined in 2004 and 2007; program-specific selection criteria were revised in 2001, 2004, and 2007; and other minor revisions were made to clarify requirements and to enhance the SS/HS comprehensive plan development in 2004 and 2007. These revisions enhanced the implementation of the program while maintaining the intent, as described in 1999, of funding school and community partnerships to implement an integrated, comprehensive community-wide plan designed to create safe, respectful, and drug-free school environments and to promote prosocial skills and healthy childhood development.

In large part the success of SS/HS grantees assessed since 2005 demonstrates that the first two of the three program goals, stated in 1999 application, are being met. A recently completed 5-year evaluation of SS/HS found that the projects resulted in—

• Fewer students witnessing violence;

• Fewer students involved in violent incidents;

• More teachers and students feeling safer at school and in the community;

• More than 80 percent of school staff reporting reductions in alcohol and other drug use among their students; and

• Increased access for students to mental health services.

We do not have similar data to support that the third program goal identified in 1999, developing an infrastructure that will institutionalize and sustain integrated services after Federal funding has ended, is achieving similar success.

In an effort to improve the success of SS/HS grantees and increase the likelihood that positive outcomes are sustained after the grant period, we reviewed quantitative and qualitative data from applicants, current grantees, and prior grantees and discussed with our Federal partners how the SS/HS grant program could be changed to increase and sustain positive outcomes among grantees. Feedback from current and former grantees and reviews of SS/HS qualitative and quantitative evaluation data revealed: (1) Shortcomings in the SS/HS program design as it relates to sustaining successful outcomes; (2) certain common characteristics shared by those grantees with successful long-term outcomes; and (3) the need for applicants to have more time to complete the SS/HS grant application.

On the first point regarding shortcomings in the SS/HS program design, many grantees stated that the absolute priority on comprehensive plans used in the 2007 competition (the 2007 Comprehensive Plan Priority) did not encourage using SS/HS Federal grant funds to support, facilitate, and create “systems change” in child- and family-serving agencies in the community or leveraging existing resources in such agencies. Instead, in meeting the 2007 Comprehensive Plan Priority, many grantees focused only on the set of activities, curricula, programs, and services they described in their comprehensive plan. By doing so, they did not experience any of the benefits that systems change can bring to the community or appreciate the importance of developing an infrastructure that will institutionalize and sustain integrated services after Federal funding has ended.

To meet the 2007 Comprehensive Plan Priority, applicants under this program have been required to submit plans that focus activities, curricula, programs, and services in a manner that responds to the community's existing needs, gaps, or weaknesses in areas related to the five comprehensive plan elements:

• Element One: Safe school environments and violence prevention activities.

• Element Two: Alcohol, tobacco, and other drug prevention activities.

• Element Three: Student behavioral, social, and emotional supports.

• Element Four: Mental health services.

• Element Five: Early childhood social and emotional learning programs.

While all applications to date have included a detailed comprehensive plan related to these SS/HS elements, only some of the SS/HS grantees have been able to sustain their respective school-community partnerships after the project ended. These sustained school-community partnerships resulted in the following successful qualitative long-term outcomes:

• Greater community support and awareness of issues that affect the healthy development of children.

• Data-driven decision-making.

• Changes in school, community-based organization, and local government policies, procedures, and practices to better serve children and their families.

• Unprecedented local collaboration that enables and encourages lasting changes.

• Sustaining activities, curricula, services, and programs after the grant project ends.

On the second point, grantee data and discussions with prior grantees have revealed common characteristics among those grantees that have demonstrated the successful long-term outcomes outlined in the previous paragraph. One common characteristic being that when grantees and their partner agencies incorporated a range of strategies—including capacity building, collaboration and partnership, policy change and development, systems change and integration, and the use of technology—in their SS/HS comprehensive plan they had successful long-term outcomes. While the activities, curricula, programs, and services that grantees carry out as part of their SS/HS projects were key, successful long-term outcomes were not as likely to result when they occurred in isolation from other strategies.

Other common characteristics of grantees with successful long-term outcomes were: They used existing community partnerships to support the development of the SS/HS application; community assessment data was used by the partnership to complete the application; and the community partnership facilitated the implementation of the project. A soon to be released national cross-site evaluation report on the 2005 and 2006 SS/HS grantees states that the value of the partnerships developed or enhanced through the SS/HS grant should not be understated and that grantees with higher functioning partnerships were associated with greater improvements reported by school staff.

Finally, we heard from many applicants that completing the application was very labor intensive and greatly exceeded the 26 hours that we estimated it would take to complete the application. Applicants stated that without a preexisting community partnership, there was not sufficient time between the date of publication in the Federal Register of the notice inviting applications for new awards and the deadline for transmittal of applications to solicit partners, negotiate a memorandum of agreement, search existing data sources, gather needed data, and complete the application.

For these reasons, we are proposing three priorities in this notice. The first priority responds to the findings regarding the need to: (a) Focus on the importance of developing an infrastructure that will be institutionalized and that will sustain integrated services after Federal funding has ended, and (b) build on what we know about projects that have had successful long-term outcomes. Specifically, in Proposed Priority 1, we propose to require applicants to include, in their SS/HS comprehensive plan, the use of a range of strategies—such as capacity building, collaboration and partnership, policy change and development, systems change and integration, and the use of technology—along with a description of the specific activities, curricula, programs, and services that will be implemented. To acknowledge and support the value of a proactive partnership among key child, family, and community agencies in the planning process, we also propose within Proposed Priority 1 a focus on the collaborative community process.

To address burden and time issues required to complete an application, the Department will use a two-tiered application process that includes a pre-application phase and a full application phase. The Department will invite all eligible applicants to submit a pre-application, which will require less cost, effort, and time to respond to than submitting a full application. The Department then will invite only those applicants with the highest-scoring pre-applications to submit a full application. To align with the two-tier application process we are proposing two priorities: One for the pre-application phase and one for the full application phase. Only those applicants invited to submit a full application would be required to meet the full application priority (Proposed Priority 2).

In Proposed Priorities 1 and 2, we include a description of the five SS/HS program elements. The substance of these elements remains largely unchanged from how we have described these elements in the past. To align with the age continuum we have re-ordered the elements to begin with early childhood-related activities. We have revised the titles of the elements to be positive and action-oriented. Also, we have heard from grantees that behavioral, social, and emotional supports are frequently addressed by curricula, programs and services related to early childhood social and emotional learning and development; drug, alcohol, and violence prevention; and mental health elements. Thus, we propose to eliminate the element titled “Student Behavioral, Social, and Emotional Supports” and include behavioral and emotional supports in the mental health element. Finally we have added the element “Connecting families, schools, and communities.” This element was included in the 2005 absolute priority and was then eliminated in the 2007 absolute priority. We believe there is a need to renew focus on the collective and individual benefits that can result by engaging families, schools, and communities in responding to issues related to alcohol and drug use, antisocial behavior, and violence.

Finally, as noted earlier in this notice, the proposals reflected in this notice incorporate some of the priorities and requirements established in the 2007 NFP. Proposed Priority 3 is one such priority. This priority, which focuses on applications from LEAs that have not received a grant or services under the SS/HS program, comes directly from the 2007 NFP. It was established in conjunction with the broadening of eligibility to LEAs who had previously received an SS/HS award. We established this priority in the 2007 NFP because we recognized that previous SS/HS grantees may have had experiences with the SS/HS program that give them a competitive advantage. We continue to believe that it is appropriate for the Department to give priority to applications from LEAs that have not yet received a SS/HS grant; this proposed priority would level the playing field for novice applicants. For this reason, we include this priority in this NPP.

Proposed Priority 1: Pre-Application—Partnership Capacity and Community Collaboration

Under this proposed priority, an eligible applicant would be required to demonstrate its community's capacity to use a collaborative process to conduct a community needs assessment and use the data collected to design an SS/HS comprehensive plan (as defined in this notice) related to the following five comprehensive plan elements:

Element One: Promoting early childhood social and emotional learning and development.

Element Two: Promoting mental, emotional, and behavioral health.

Element Three: Connecting families, schools, and communities.

Element Four: Preventing and reducing alcohol, tobacco, and other drug use.

Element Five: Creating safe and violence-free schools.

To demonstrate capacity, an applicant would be required to describe in its pre-application (1) how required SS/HS partners will engage community members, community organizations, and students and their families to collaborate and participate in a community assessment; and (2) how each partner would support an SS/HS planning and design process to gather qualitative and quantitative descriptive information about their efforts to develop and coordinate integrated systems that create safe, drug-free, and respectful environments for learning and promote the behavioral health of children and youth.

Proposed Priority 2: Full Application—SS/HS Comprehensive Plan

Under this proposed priority, each eligible applicant selected by the Secretary to submit a full application under this program would be required to assess its community's existing needs and gaps and submit, as part of its full application, a comprehensive plan (as defined in this notice) for creating safe, drug-free, and respectful environments for learning and promoting the behavioral health of children and youth. The comprehensive plan, must address the following five elements:

Element One: Promoting early childhood social and emotional learning and development.

Element Two: Promoting mental, emotional, and behavioral health.

Element Three: Connecting families, schools, and communities.

Element Four: Preventing and reducing alcohol, tobacco, and other drug use.

Element Five: Creating safe and violence-free schools.

Proposed Priority 3: Pre-Application and Full Application—LEAs That Have Not Previously Received a Grant or Services Under the SS/HS Program

Under this priority, we propose to give priority to applications from LEAs that have not yet received a grant under the SS/HS program as an applicant or as a member of a consortium. In order for a consortium application to be eligible under this priority, no member of the LEA consortium may have received a grant or services under this program as an applicant or as a member of a consortium applicant.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Requirements

The Assistant Deputy Secretary proposes the following requirements for pre-applications and full applications under this program. We may apply one or more of these requirements in any year in which this program is in effect.

Proposed Requirements—Pre-Application

Proposed Pre-Application Requirement 1—Eligible Applicant

Background: In 1999 local educational agencies (LEAs) were the only eligible applicants. In 2004, an eligibility requirement was established that limited eligibility to LEAs or a consortium of LEAs that had never received SS/HS funds (69 FR 30756). In the 2007 NFP we broadened eligibility to include prior grantees, provided that they did not currently have an active SS/HS project. We also stated that prior grantees could not serve the same schools or sub-regions with a subsequent grant that they served with a previous SS/HS grant. We do not propose to change the eligibility requirements established in FY 2007 for the pre-application. Accordingly, Proposed Pre-application Requirement 1—Eligible Applicant would incorporate these requirements.

Proposed Pre-Application Requirement 1—Eligible Applicant

An eligible applicant is (1) an LEA that is not an active SS/HS grantee and is not a member of an active SS/HS consortium grant, or (2) a consortium of LEAs, none of which are active SS/HS grantees. For the purpose of this eligibility requirement, a grant is considered active until the end of the grant's project or funding period, including any extensions of those periods that extend the grantee's authority to obligate funds.

Additionally, former SS/HS grant recipients (i.e., LEAs that previously received funds or services, or consortia of LEAs that include one or more LEAs that previously received funds or services under the SS/HS program) must submit a program-specific assurance stating that, if awarded, the project will not serve those schools or sub-regions served by a previous SS/HS grant. Applications from prior SS/HS grant recipients (or from a consortium that includes one or more LEAs that previously received SS/HS funds or services) that do not include the program-specific assurance will not be considered for funding.

Proposed Pre-Application Requirement 2—Required SS/HS Partners

Background: Since 1999, early childhood social and emotional learning and development has been one of the core elements of the SS/HS program. The Federal partners included early childhood social and emotional development as a component of the SS/HS program because they believed that, based on the large body of research about the development of young children, promoting social and emotional development of children should be part of a broader strategy to improve the quality of early learning programs.

Research shows that children who enter kindergarten without adequate capacity to develop social relationships, to focus their attention on tasks, to effectively communicate their emotions or empathize with peers, or to solve social conflicts or problems are more likely to experience academic difficulties and peer rejection during their elementary school years (Hemmeter, et al., 2006).

SS/HS grantees have long suggested that an early childhood partner at the local community level is a critically important ally in implementing an SS/HS comprehensive plan. For this reason, we are proposing to require applicants to identify, as part of their pre-applications, an early childhood agency (as defined in this notice) along with the other required SS/HS partners—a local juvenile justice agency, a local law enforcement agency, and a local public mental health authority.

Proposed Pre-Application Requirement 2—Required SS/HS Partners

Under this proposed requirement, each applicant must identify, in its pre-application, each of the following as required SS/HS partners: An early childhood agency, a local juvenile justice agency, a local law enforcement agency, and a local public mental health authority (as these terms are defined in this notice).

Proposed Pre-Application Requirement 3—Letters of Commitment

Background: Traditionally SS/HS has required applicants to submit a memorandum of agreement (MOA) signed by the required SS/HS partners. The overall purpose of the MOA has been to demonstrate the support and commitment of the required SS/HS partners. We have learned from successful SS/HS grantees that key to the SS/HS partnership is the internal capacity and level of commitment of each of the required SS/HS partners. We also learned that some applicants have difficulty obtaining signatures from one or more required SS/HS partners on an MOA.

We propose to replace the requirement that an applicant include an MOA in its application with a requirement that an applicant include, as part of its pre-application, letters of commitment. We would require the letters of commitment provide evidence of the SS/HS partners' collective and individual capacity, commitment, leadership, and resources to conduct the community assessment and develop an SS/HS comprehensive plan if the applicant is invited to submit a full application.

Proposed Pre-Application Requirement 3—Submit Letters of Commitment From Required SS/HS Partners

Each applicant must include in its pre-application letters of commitment from each of the required SS/HS partners—an early childhood agency, a local juvenile justice agency, a local law enforcement agency, and a local public mental health authority (as these terms are defined in this notice). The applicant-LEA must also submit a letter of commitment. Each letter of commitment must be signed by the agency or authority's authorized representative (as defined in this notice). For consortium applicants, each member LEA must include a letter of commitment, and the corresponding required SS/HS partners for each member LEA must also include a letter of commitment.

Each letter of commitment must include information that (1) supports the selection of the agency or authority as a required SS/HS partner; (2) outlines the organizational capacity of the agency or authority and its commitment to the SS/HS project; (3) describes the resources available to support the pre-application process; (4) details past experience with collecting and using data for decision-making; (5) documents past experience with building relationships and engaging community members in child- and youth-focused programs; and (6) describes what the partner's role will be in conducting the community assessment and in developing an SS/HS comprehensive plan if the applicant is invited to submit a full application.

Proposed Pre-Application Requirement 4—Community Overview

Background: As previously discussed in this notice, some applicants commented during the last SS/HS grant competition, that the amount of time provided applicants to complete the application period was not sufficient for applicants to conduct a thorough community assessment. The Federal partners agree and propose to require applicants to submit, as part of the pre-application, a community overview (as defined in this notice) rather than a thorough community assessment. The community overview would be based on readily available data and would not require a significant financial or time investment by an applicant or its partners.

Proposed Pre-Application Requirement 4—Community Overview

Each applicant must include, as part of its pre-application, a community overview (as defined in this notice) on the community to be targeted and served by the proposed SS/HS project. The information in the community overview must be related to the five SS/HS elements, as described in this notice.

Proposed Pre-Application Requirement 5—Description of the Collaborative Community Assessment Process

Background: As previously discussed, a common characteristic among SS/HS projects that have demonstrated successful long-term outcomes is that the projects used a collaborative community assessment and planning process when developing the SS/HS application. By engaging the required SS/HS partners and other community organizations, community members, and students and their families in the assessment process (i.e., the identification of issues and needs, including risk and protective factors of the students, their families, and the community), applicants have been able to achieve greater buy-in and support for the project's implementation and success.

SS/HS applicants have told us that time can be a restricting factor in conducting a comprehensive community assessment. By design, the pre-application process would require that an applicant describe only the process to be used to conduct a community assessment. Only applicants with the highest-scoring pre-applications would be required to conduct the community assessment, and additional time would be provided for those applicants to conduct the assessment.

Proposed Pre-Application Requirement 5—Description of the Collaborative Community Assessment Process

Each applicant must include, as part of its pre-application, a description of how the SS/HS partners will engage community organizations, community members, as well as students and their families, in the (1) community assessment, (2) analysis of the data collected through the assessment, and (3) decision-making process to create a SS/HS comprehensive plan (as defined in this notice) if the applicant is invited to submit a full application.

Proposed Pre-Application Requirement 6—Statement of Accuracy and Veracity

Background: The SS/HS application process involves a wide range of individuals, organizations, local governments, and other community-based agencies. As the lead applicant and the potential grantee, it is important that the authorized representative of the applicant-LEA be knowledgeable and up to date on the details of the SS/HS application.

Proposed Pre-Application Requirement 6—Statement of Accuracy and Veracity

In the pre-application, each applicant must include a program-specific “statement of accuracy and veracity” assurance that has been signed by the LEA's authorized representative. The program-specific assurance must attest that the data, statements, and other information included in the pre-application are true, complete, and accurate and do not contain false, fictitious, or fraudulent statements or claims.

Proposed Requirements—Full Application

Proposed Full Application Requirement 1—Eligibility

Background: The Department proposes to limit eligibility to submit a full application to those applicants that scored highly during the pre-application phase of this competition. With this two-tiered application process, the Department will review a rank-order list of highest-scoring pre-applications and from that list will invite a select number of applicants to submit a full application. By implementing this process, the Department seeks to limit the number of applicants that are required to provide extensive information in their applications to those applicants that receive high scores after providing a lesser amount of information in a pre-application.

Proposed Full Application Requirement 1—Eligibility

In order to be eligible to submit a full application for the SS/HS program, an eligible applicant must receive an invitation from the Department to submit a full application. The Department will make invitations based on the highest-scoring pre-applications.

Proposed Full Application Requirement 2—Required SS/HS Partners

Background: Consistent with the reasons provided in the background section for Proposed Requirement: Pre-application 2—Required SS/HS Partners, we are proposing to require applicants to identify an early childhood agency as one of their required SS/HS partners.

Proposed Full Application Requirement 2—Required SS/HS Partners

Under this proposed requirement, each applicant must identify, in its full application, each of the following as required SS/HS partners: an early childhood agency, a local juvenile justice agency, a local law enforcement agency, and a local public mental health authority (as these terms are defined in this notice).

Proposed Full Application Requirement 3—Letters of Commitment From Required SS/HS Partners

Background: As previously described, we propose requiring pre-application applicants to submit letters of commitment from required SS/HS partners. We propose that full application applicants submit letters of commitment again, as part of the full application. The letters of commitment with the full application would reconfirm the commitment of each of the required partners and address any changes (such as changes in leadership, staffing, or other resources that may diminish or increase the capacity of the required partners to support the SS/HS comprehensive plan) made since submitting the pre-application.

Proposed Full Application Requirement 3—Letters of Commitment From Required SS/HS partners

Each applicant must include, in its full application, letters of commitment from each of the required SS/HS partners—an early childhood agency, a local juvenile justice agency, a local law enforcement agency, and a local public mental health authority (as defined in this notice). The applicant-LEA must also submit a letter of commitment. Each letter of commitment must be signed by the agency or authority's authorized representative (as defined in this notice). For consortium applicants, each member LEA must include a letter of commitment, and the corresponding required SS/HS partners for each member LEA must include a letter of commitment.

Each letter of commitment must include information that (1) supports the selection of the agency or authority as a required SS/HS partner; (2) outlines the organizational capacity of the agency or authority and its commitment to the SS/HS project; (3) describes the resources available to support the full application process; (4) details past experience with collecting and using data for decision-making; (5) documents past experience with building relationships and engaging community members in child- and youth-focused programs; and (6) describes the partner's role in conducting the community assessment and in developing an SS/HS comprehensive plan.

In addition, the letters of commitment included in the full application must include a description of any changes (since submitting the pre-application) in leadership, staffing, or other resources that may diminish or increase the capacity of the required partners to support the SS/HS comprehensive plan.

Proposed Full Application Requirement 4—Logic Model

Background: Beginning in 2007, SS/HS applicants have been required to submit a “logic model” as part of their applications. The logic model is a graphic representation, by each SS/HS element, of key information included in the comprehensive plan narrative. Many applicants have stated that constructing the logic model helped organize and conceptualize the SS/HS comprehensive plan.

Additionally, we believe that requiring a logic model has helped applicants and reviewers to compare the identified community's needs and gaps with: (1) Goals and objectives; (2) proposed activities, curricula, programs, and services; (3) partners' roles; and (4) outcome measures. In addition, the logic model has helped applicants and reviewers to evaluate the extent to which the applicant's goals; objectives; proposed activities, curricula, programs, and services; partners' roles; and outcome measures were appropriate and reasonable.

Proposed Full Application Requirement 4—Logic Model

Each applicant must include a logic model with its full application. The logic model must represent the SS/HS comprehensive plan in a chart format, by element, that depicts: (1) The needs and gaps identified in the community assessment; (2) goals that are responsive to the identified needs and gaps; (3) goal-related objectives that are specific, measurable, appropriate, and timely; (4) activities, curricula, programs, and services that are responsive to the identified needs and gaps and are appropriate for the population to be served; (5) each required partner's role and evidence of its strong commitment to the project; and (6) process and outcome measures that will adequately evaluate the project and provide data for continuous improvement of the project.

Proposed Full Application Requirement 5—Description of Community Assessment Process

Background: A proposed requirement of the pre-application is a plan for conducting a collaborative community assessment and a description of how the SS/HS partners would engage community organizations, community members, students, and their families in the analysis of data and in the design of the SS/HS comprehensive plan, if invited to submit a full application. Because invited applicants will have additional time to conduct the community assessment and prepare the full application, we believe it would be appropriate to require them to provide a more detailed description of the community assessment process and findings from the assessment at this stage of the application process.

Proposed Full Application Requirement 5—Description of Collaborative Community Assessment Process

Each applicant must include, as part of its full application, a description of the collaborative community assessment process used to design the SS/HS comprehensive plan. The description must explain how the required SS/HS partners engaged community organizations, community members, and students and their families in the community assessment, analysis of the data collected through the assessment, and decision-making process used to prepare the full application.

Proposed Full Application Requirement 6—Statement of Accuracy and Veracity

Background: As previously stated in this notice, the SS/HS application process involves a broad array of individuals, organizations, local governments, and other community-based agencies. As the lead applicant and the potential grantee, it is important that the authorized representative of the applicant-LEA be knowledgeable and up to date on the details of the SS/HS application. Accordingly, we propose requiring that each applicant include, in its full application, a statement attesting to the manner in which the grant application was developed and the veracity of the data included in the application.

Proposed Full Application Requirement 6—Statement of Accuracy and Veracity

In the full application, each applicant must include a program-specific “statement of accuracy and veracity” assurance that has been signed by the LEA's authorized representative. The program-specific assurance must attest that the data, statements, and other information included in the application are true, complete, and accurate and do not contain false, fictitious, or fraudulent statements or claims. The assurance must also attest that the collaborative process was carried out, as described in the pre-application, or, if there were changes, describe how the community assessment process differed from the process described in the pre-application.

Proposed Full Application Requirement 7—Funding Request

Background: In the most recent SS/HS competitions, the Department used student enrollment data to establish maximum annual grant award amounts, as follows: $2,250,000 for an LEA with at least 35,000 students; $1,500,000 for an LEA with at least 5,000 students, but fewer than 35,000 students; and $750,000 for an LEA with fewer than 5,000 students. Several small, rural, and Tribal LEAs stated that it is erroneous to assume smaller LEAs require less funding to implement an SS/HS comprehensive plan and argued that costs associated with serving their student populations are as much or more than the costs of providing services in larger, more densely populated areas (due in part to, for example, distance, lack of municipal infrastructure, and limited service providers).

We, therefore, are proposing to increase the award amounts available to smaller LEAs.

Proposed Full Application Requirement 7—Funding Request

Applicants may request no more funding than the established maximum amount. Based on student enrollment data for the participating LEAs, the request for funding in a full application must not exceed the following maximum amounts for any of the project's four 12-month budget periods:

Enrollment | Maximum funding request not to exceed:
Fewer than 15,000 students | $1 million per year [for a total of $4 million].
15,000-49,999 students | $1.5 million per year [for a total of $6 million].
50,000 or more students | $2 million per year [for a total of $8 million].

To determine the maximum funding request, applicants must use the most recent student enrollment data from the National Center for Education Statistics (NCES) Common Core of Data (CCD) as posted on the NCES Web site (http://nces.ed.gov/ccd/districtsearch). In the case of consortium applicants, the maximum funding request is based on the combined student enrollment data for all participating LEAs.

If a Department of the Interior, Bureau of Indian Education-funded school that is not included in the NCES database requests grant funds that exceed $1 million for any of the project's four 12-month budget periods, it must provide documentation of student enrollment data from the Native American Student Information System.

Proposed Full Application Requirement 8—Post-Award Requirements

Background: Federal SS/HS grant monitors have found that SS/HS grantees were sometimes unclear about grant expectations and requirements following the award of the grant. We propose to clearly identify the following post-award requirements relating to: (1) The full-time SS/HS project director; (2) the minimum evaluation and data requirements at the national and grantee level; (3) the submission of a signed memorandum of agreement (MOA) within six months of receipt of the grant award notice; and (4) the development of a communications and outreach plan that uses social marketing (as defined in this notice) principles and techniques.

Full-time project director. Former grantees have told us that due to the complexity and comprehensiveness of the SS/HS project, a full-time SS/HS project director is essential to, and a strong predictor of, a project's success. Federal program monitors agree with this assessment. In addition to overseeing the implementation of all SS/HS grant activities, the project director is responsible for fiscal management, ensuring timely submission of performance reports, assuring compliance with appropriate Department of Education and Federal grant regulations and requirements, and coordinating with local partners and community members. Having a single, full-time person assume these responsibilities will improve coordination and accountability between the Federal program monitor and the grantee.

Evaluation and data requirements. The regular availability of performance data is necessary for providing SS/HS Federal partners with data needed to demonstrate the progress of the SS/HS grant program and report to Congress; demonstrate a grantee's progress and determine continuation funding; and inform a grantee's continuous improvement process. We have encouraged grantees to make evaluation an integral part of their SS/HS planning and implementation activities and since 1999 have required that grantees set aside a portion of their award to support evaluation activities. Based on the feedback we have received from former grantees and SS/HS grant monitors, we have found that guidance and technical assistance in the area of evaluation expectations is not enough, and that timely data collection and reporting is a challenge for some funded grantees. We, therefore, propose a revised set of post-award requirements relating to data collection and reporting.

First, we propose that each applicant include in its full application an assurance that, if granted a SS/HS award, the grantee and required SS/HS partners will participate in SS/HS national evaluation efforts. Second, we propose requiring grantees to submit to the Department a report on local evaluation activities and results at least annually and at the conclusion of the grant. Finally, we propose that grantees submit semi-annual performance data as needed to support one of the SS/HS Federal partners' performance data systems, currently known as the Transformation Accountability System (TRAC). (Unlike other SS/HS performance data, TRAC data need to be updated semi-annually at the Federal level.)

MOA. In 1999, applicants were required to include two written agreements signed by the required SS/HS partners. The first agreement delineated the roles and responsibilities of all of the required partners. The second agreement outlined the referral, treatment, and follow-up process for providing mental health services to children and youth. In 2007 the requirement changed and applicants were required to submit a preliminary MOA with the application and, if funded, a final MOA was required post award. In this notice, we propose to require applicants to include letters of commitment with the pre-application and, if selected, with the full application. However, we do not propose to eliminate the post-award requirement that grantees submit a final MOA (as defined in this notice) to the Department within six months of receipt of the grant award notice.

Finally, the SS/HS program established funding restrictions in 1999 related to the local evaluation requirement (that at least five percent of the total grant award each year be used by a grantee for evaluating its project) and the limit on expenditures for costs of security equipment, security personnel, and minor remodeling of school facilities to improve safety (no more than 10 percent of each year's total award). The set-aside for the local evaluation was changed to seven percent in 2001; the funding restrictions related to security equipment, security personnel, and minor remodeling has not changed since 1999. Under this proposed requirement the funding restrictions would remain the same. However, we would restrict funding as it relates to another grant activity, communications and outreach.

Communications and outreach plan. We have seen how communications and social marketing efforts can greatly support the programmatic goals and objectives of SS/HS projects. A communications and outreach plan, developed by the grantee, presents strategies to: (1) Garner community support of and participation in the proposed project; (2) develop key messages that promote healthy childhood development and prevention of violence and substance abuse; and (3) regularly update the community, partners, staff, and students about the proposed project's progress. For this reason, we propose to require applicants to develop a communications and outreach plan and a communications and outreach budget to support and implement the plan. Under these proposed requirements, the communications and outreach budget must use no less than two percent of each year's award and will be subject to approval by the Department if an award is made.

Proposed Full Application Requirement 8—Post-Award Requirements

Each applicant invited to submit a full application will acknowledge post-award requirements by including the following in its application:

(1) An assurance that a single, full-time (as defined in this notice) project director will be hired to manage and provide leadership for the proposed SS/HS project. The project director will be considered key personnel.

(2) A statement signed by the required SS/HS partners agreeing to comply with the SS/HS evaluation requirements, including: (a) Submission of baseline data prior to implementing grant activities, curricula, programs or services and no later than 6 months after receipt of the grant award notice; (b) submission of an evaluation plan within 6 months of receipt of the grant award notice; (c) submission of annual and final evaluation reports (as defined in this notice); (d) participation in national SS/HS evaluation activities; and (e) collection and semi-annual submission of TRAC data.

(3) A statement signed by the authorized representative of the applicant-LEA, committing to submit an MOA (as defined in this notice) within 6 months of receipt of the grant award notice. For consortium applicants, the statement must be signed by the authorized representative of the LEA serving as the applicant.

(4) A statement signed by the authorized representative of the applicant-LEA, committing to submit a communications and outreach plan and a communications and outreach budget within six months of receipt of the grant award notice. For consortium applicants, the statement must be signed by the authorized representative of the LEA serving as the applicant.

Funding Restrictions: The proposed funding restrictions for this program are:

(1) Not less than 7 percent of the total budget for each project year must be used to support costs associated with local evaluation activities.

(2) Not more than 10 percent of the total budget for each project year may be used to support costs associated with security equipment, security personnel, and minor remodeling of school facilities to improve school safety.

(3) Not less than 2 percent of the total budget for each project year must be used to support costs associated with the communications and outreach plan.

Additional Selection Factors

Background: Since 1999 the applicants for SS/HS have been diverse, in geographic location and in activities addressed by the projects. We have funded at least one SS/HS project in 49 States and in the District of Columbia. All funded SS/HS projects included at least one activity, curricula, program, or service for each of the identified five elements. We propose additional selection factors to ensure continued diversity of funded projects.

Proposed Additional Selection Factors

We propose to consider geographic distribution and diversity of activities addressed by the projects in selecting an application for an award.

Proposed Definitions

Background: Several important terms associated with this competition are not defined in the statute. Additionally, some important terms are defined in various ways in the field (depending on the discipline) and across communities. To ensure that all required SS/HS partners have a clear understanding of the SS/HS program and requirements, we propose to define a select number of terms important for applicants to understand when responding to the proposed priorities and requirements and submitting a pre-application or a full application under this program.

Among the terms we propose to define in this notice is the term comprehensive plan, which we have defined in other notices for this program. We are proposing to revise this definition based on feedback we have received from grantees and questions received from applicants during the competition. Specifically, we intend to clarify that the comprehensive plan, as used in this competition, is the applicant's response to the selection criteria. Additionally, we hope to focus on the range of strategic actions that can be included in the comprehensive plan along with the selected activities, curricula, programs, and services. Finally, we intend to require applicants to use a community-specific data-driven approach in creating a comprehensive plan. For example, many grantees with successful long-term outcomes highly rate the use of good practice and judgment when selecting which evidence-based activities, curricula, and programs to include in their SS/HS comprehensive plan. They have stated that the outcomes of evidence-based activities, curricula, programs, and services were best when the age and developmental level of the targeted population were taken into consideration and when cultural and linguistic competency was reflected in all activities, curricula, programs, and services. The Federal partners had assumed that applicants considered the age and developmental levels, gender, and cultural diversity of populations to be served; to ensure that this is done in future SS/HS projects, we propose to include this consideration as part of the definition for comprehensive plan.

Proposed Definitions

The Assistant Deputy Secretary proposes the following definitions for this program. We may apply one or more of these definitions in any year in which this program is in effect.

Authorized representative means the official within an organization with the legal authority to give assurances, make commitments, enter into contracts, and execute such documents on behalf of the organization as may be required by the U.S. Department of Education (the Department), including certification that commitments made on grant proposals will be honored and that the organization agrees to comply with the Department's regulations, guidelines, and policies.

Community assessment means an assessment developed through a planned and purposeful process of gathering, analyzing, and reporting current data and information about the characteristics and needs of children and youth, schools, and communities in which SS/HS services will be implemented, as well as the services or resources that are also currently available in the community to meet needs. The community assessment must include—

(a) A description of the collaborative community assessment process used;

(b) A description of the characteristics and demographics of the community, schools, children, youth, and families to be served;

(c) A description of the individual, family, school, and community risk and protective factors that have an impact on the targeted population and that correspond to the five SS/HS elements described in this notice;

(d) A description of the community's needs and gaps, including challenges related to the accessibility to, or quality of, services related to the five SS/HS elements described in this notice;

(e) A description of problem behaviors exhibited by the children and youth to be served, including, but not limited to: (1) Classroom disruption, (2) drug and alcohol use, and (3) incidence of violent and aggressive behavior; and

(f) A discussion regarding the availability of school and community-based mental health services.

Community overview means general qualitative, descriptive, and anecdotal information about the community to be served by the proposed project. Information included in the community overview should come from readily available sources and must include, but is not limited to—

(a) Size of LEA(s) to be served, including the number of students and school buildings in those LEA(s);

(b) A description of the population (socio-economic, racial, ethnic characteristics) to be served;

(c) A description of the risk and protective factors affecting the targeted population; and

(d) A description of the existing services, unmet needs, and other challenges and barriers that are related to the five SS/HS elements described in this notice.

Comprehensive plan means a narrative response to the selection criteria in the full application that draws from the results of the community assessment to describe the ways in which the community's existing needs and gaps will be addressed within the following five SS/HS elements:

Element One: Promoting early childhood social and emotional learning and development.

Element Two: Promoting mental, emotional, and behavioral health.

Element Three: Connecting families, schools, and communities.

Element Four: Preventing and reducing alcohol, tobacco, and other drug use.

Element Five: Creating safe and violence-free schools.

The SS/HS comprehensive plan must reflect a range of strategic actions, such as capacity building, collaboration and partnership, policy change and development, systems change and integration, and use of technology. The comprehensive plan must include, but is not limited to—

(a) An explanation of how data was used to develop the comprehensive plan;

(b) Specific, measurable objectives of the proposed SS/HS project;

(c) A description of the activities, curricula, programs, and services that will be implemented as part of the proposed SS/HS project to address the existing needs and gaps;

(d) Information that demonstrates that the selected activities, curricula, programs, and services are evidence-based or reflect current research, are culturally and linguistically competent and are developmentally appropriate for the targeted population, and serve vulnerable and at-risk populations;

(e) A description of how the required SS/HS partners will work together to share resources in order to achieve the community's goals and outcomes;

(f) A description of how the program will expand the community's current capability to serve children, youth, and families;

(g) A description of how the SS/HS program will be implemented and managed in a way that will increase efficiencies and communication across schools, parents, and the SS/HS partners;

(h) A detailed management plan that addresses how the partners and others will make decisions, communicate, share information and resources, overcome barriers, monitor progress and use data for continuous improvement, increase the levels and intensity of collaboration, and plan for sustainability of the SS/HS program; and

(i) A description of the evaluation planning process.

Core management team means a team of senior-level representatives from each of the required SS/HS partners that provides support to the SS/HS project director in the day-to-day management of the project.

Early childhood agency means a local or State government agency that addresses early learning and development issues in the communities to be served by the project. Examples of early childhood agencies include State childcare advisory boards, county childcare commissions or councils, State Advisory Councils on Early Childhood Education and Care, and the Governor's Office of Children and Families. Note: Local programs that provide early learning and development services to young children (e.g., child care programs and Head Start programs) would not meet this definition.

Evaluation report means a report that focuses on the formative and summative evaluation of the local SS/HS activities, strategies, policies, and operations implemented each year of and at the end of the project. The report must include, but is not limited to—

(a) A description of evaluation activities conducted during the year that includes information about—

(i) The type of data collected;

(ii) The methods used to collect data;

(iii) The reliability of the data collection instruments used;

(iv) The frequency with which data were collected;

(v) The persons from whom data were collected;

(vi) The number of persons who completed each data collection instrument; and

(vii) The methods used to analyze data;

(b) A description of the activities, services, strategies, programs, and policies implemented as part of the grantee's SS/HS project;

(c) Information regarding the fidelity with which evidence-based programs were implemented as part of the grantee's SS/HS project;

(d) A description of the processes and procedures followed to implement and operate components of the grantee's SS/HS project;

(e) A description of SS/HS partners and the processes implemented to ensure collaboration among partners;

(f) Information on changes in the level of collaboration and integration among the project's SS/HS partners;

(g) A description of unanticipated obstacles encountered during the implementation of SS/HS activities, strategies, programs, and policies and how they were overcome;

(h) Information on the number and demographic characteristics (age, gender, race, grade, and other relevant information such as disability status) of the children, youth, parents, and community stakeholders who participate in SS/HS activities, services, and programs;

(i) A description of how and the frequency with which evaluation findings were shared with the local SS/HS project director and the core management team (as defined in this notice) to inform their decision-making and to make changes to the project in order to achieve greater effectiveness;

(j) A description of activities conducted to disseminate information about the grantee's SS/HS project to community stakeholders, including parents, school personnel, community leaders, and residents;

(k) Data and analyses related to the SS/HS Government Performance and Results Act indicators and other locally-determined outcome indicators; and

(l) Interpretations of findings, conclusions and recommendations.

Full-time means working at least 240 days for every 12-month period.

Local juvenile justice agency means an agency or entity at the local level that is officially recognized by the State or local government as responsible for addressing juvenile justice issues in the communities to be served by the proposed project. Examples of juvenile justice agencies include: Juvenile or family courts, juvenile probation agencies, and juvenile corrections agencies.

Local law enforcement agency means the agency (or agencies) that is officially recognized by the State or local government as the law enforcement authority for the LEA. Examples of local law enforcement agencies include: Municipal, county, LEA, and State police; Tribal police and councils; and sheriffs' departments.

Local public mental health authority means the entity legally constituted (directly or through contracts with the State mental health authority) to provide administrative control or oversight of mental health services within the communities to be served by the project.

Memorandum of Agreement (MOA) means a document signed by the authorized representatives from each of the required SS/HS partners—the lead applicant-LEA, the local public mental health authority, the local law enforcement agency, the local juvenile justice agency, and the early childhood agency. For consortium applicants, the MOA must be signed by the authorized representatives from each of the member LEAs and the corresponding required SS/HS partners for each member LEA. Additionally, the MOA must include:

(a) Any needed revisions to the statement of support and commitment included in the full application for each of the required SS/HS partners (described in the letters of commitment submitted with the full application) to implement the project.

(b) A roster of the core management team (as defined in this notice) that clearly defines how each member of the team will support the SS/HS project director in the day-to-day management of the project.

(c) Any needed revisions to the process for involving multiple and diverse sectors of the community in the implementation and continuous improvement of the project.

(d) A logic model that identifies needs or gaps and connects those needs or gaps with corresponding project goals, objectives, activities, partners' roles, outcomes, and outcome measures for each of the SS/HS elements.

(e) A description of the procedures to be used for referral, treatment, and follow-up for children and adolescents in need of mental health services and an assurance that the local public mental health authority will provide administrative control or oversight of the delivery of mental health services.

TRAC (Transformation Accountability System) means the system the Department of Health and Human Services, Substance Abuse and Mental Health Services Administration (SAMHSA), Center for Mental Health Services (CMHS) uses to collect Government Performance and Results Act performance measure data for the SS/HS program.

Final Priorities, Requirements, and Definitions

We will announce the final priorities, requirements, and definitions in a notice in the Federal Register. We will determine the final priorities, requirements, and definitions after considering responses to this notice and other information available to the Department. This notice does not preclude us from proposing additional priorities, requirements, definitions, or selection criteria, subject to meeting applicable rulemaking requirements.

Note: This notice does not solicit applications. In any year in which we choose to use one or more of these priorities, requirements, and definitions, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priorities, requirements, and definitions justify the costs.

We have determined, also, that this proposed regulatory action does not unduly interfere with State, local, and Tribal governments in the exercise of their governmental functions.

Discussion of Costs and Benefits: The Secretary believes that the costs imposed on an applicant by the proposed priorities, requirements, and definitions would be related to preparing an application, including but not limited to staff time, copying, and mailing or delivery and are minimal for the pre-application. Additional costs may be incurred by those applicants invited to submit a full application but the benefits of these proposed priorities, requirements, and definitions are significant Federal assistance to fund the implementation and enhancement of prevention and intervention activities, curricula, programs, and services would outweigh any costs incurred by the applicant. Additionally, the required SS/HS partners should bring intellectual, human, and financial resources to the grant application process, thereby reducing or eliminating costs the applicant may incur.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: February 14, 2011.
Kevin Jennings,
Assistant Deputy Secretary for Safe and Drug-Free Schools.

[FR Doc. 2011-3788 Filed 2-17-11; 8:45 am]

BILLING CODE 4000-01-P